DEPARTMENT OF ENERGY

Federal Energy Regulatory Commission

Combined Notice of Filings No. 1

November 30, 2010.

Take notice that the Commission received the following electric corporate filings:

Docket Numbers: EC11-19-000.

Applicants: Exeter Energy Limited Partnership, ReEnergy Sterling LLC.

Description: Supplemental Information of ReEnergy Sterling LLC.

Filed Date: 11/30/2010.

Accession Number: 20101130-5139.

Comment Date: 5 p.m. Eastern Time on Friday, December 10, 2010.

Docket Numbers: EC11-27-000.

Applicants: Wolverine Creek Goshen Interconnection, Diamond Generating Corporation, Ridgeline Alternative Energy LLC, Goshen Phase II LLC, Goshen Phase II Holdings LLC, Goshen Wind Holdings LLC.

Description: Joint Application for Authorization of Transaction Pursuant to Section 203 and Request for Confidential Treatment of Transaction Document, Expedited Consideration, and Waivers of Ridgeline Alternative Energy LLC et al.

Filed Date: 11/30/2010.

Accession Number: 20101130-5137.

Comment Date: 5 p.m. Eastern Time on Tuesday, December 21, 2010.

Take notice that the Commission received the following electric rate filings:

Docket Numbers: ER05-644-011.

Applicants: PSEG Energy Resources & Trade LLC.

Description: PSEG Energy Resources & Trade LLC submits, as an information filing, a list of planned Project Investments and projected Project Investment costs for calendar year 2011.

Filed Date: 10/01/2010.

Accession Number: 20101001-5262.

Comment Date: 5 p.m. Eastern Time on Friday, December 10, 2010

Docket Numbers: ER05-644-011.

Applicants: PSEG Energy Resources & Trade LLC.

Description: Notice of Amendment and Partial Withdrawal of the Informational Filing of PSEG Energy Resources & Trade LLC and PSEG Fossil LLC.

Filed Date: 11/15/2010.

Accession Number: 20101115-5204.

Comment Date: 5 p.m. Eastern Time on Friday, December 10, 2010.

Docket Numbers: ER10-2639-001; ER11-2200-001.

Applicants: Noble Americas Gas and Power Corp., Noble Americas Energy Solutions LLC.

Description: Notice of Change in Status of Noble Americas Energy Solutions LLC, et. al.

Filed Date: 11/30/2010.

Accession Number: 20101130-5167.

Comment Date: 5 p.m. Eastern Time on Tuesday, December 21, 2010.

Docket Numbers: ER11-2198-000.

Applicants: Southwest Power Pool, Inc.

Description: Southwest Power Pool, Inc. submits tariff filing per 35.13(a)(2)(iii): Formula Update—AEP Transco to be effective 7/26/2010.

Filed Date: 11/29/2010.

Accession Number: 20101129-5124.

Comment Date: 5 p.m. Eastern Time on Monday, December 20, 2010.

Docket Numbers: ER11-2199-000.

Applicants: New York Independent System Operator, Inc.

Description: New York Independent System Operator, Inc. submits tariff filing per 35.13(a)(2)(iii): 205 Filing—LGIA among the NYISO, Con Edison and Bayonne Energy Center to be effective 11/10/2010.

Filed Date: 11/29/2010.

Accession Number: 20101129-5125.

Comment Date: 5 p.m. Eastern Time on Monday, December 20, 2010.

Docket Numbers: ER11-2200-000.

Applicants: Sempra Energy Solutions LLC.

Description: Sempra Energy Solutions LLC submits tariff filing per 35.13(a)(2)(iii): Noble Americas Energy Solutions LLC succession to be effective 11/1/2010.

Filed Date: 11/29/2010.

Accession Number: 20101129-5127.

Comment Date: 5 p.m. Eastern Time on Monday, December 20, 2010.

Docket Numbers: ER11-2201-000.

Applicants: Evergreen Wind Power III, LLC.

Description: Evergreen Wind Power III, LLC submits tariff filing per 35.12: MBR Application of Evergreen Wind Power III, LLC to be effective 7/1/2011.

Filed Date: 11/29/2010.

Accession Number: 20101129-5155.

Comment Date: 5 p.m. Eastern Time on Monday, December 20, 2010.

Docket Numbers: ER11-2202-000.

Applicants: Florida Power & Light Company.

Description: Florida Power & Light Company submits an Interconnection Agreement No. 285 with Wheelabrator North Broward Inc, to be effective 1/1/2011.

Filed Date: 11/30/2010.

Accession Number: 20101130-5002.

Comment Date: 5 p.m. Eastern Time on Tuesday, December 21, 2010.

Docket Numbers: ER11-2203-000.

Applicants: Allegheny Energy Supply Company LLC.

Description: Allegheny Energy Supply Company, LLC submits request for authorization to make wholesale power sales to its affiliate, Pennsylvania Electric Company.

Filed Date: 11/29/2010.

Accession Number: 20101130-0201.

Comment Date: 5 p.m. Eastern Time on Monday, December 20, 2010.

Docket Numbers: ER11-2204-000.

Applicants: Southern California Edison Company.

Description: Southern California Edison Company submits tariff filing per 35.13(a)(2)(iii): LGIA Mojave Solar Project SA 94 to be effective 1/30/2011.

Filed Date: 11/30/2010.

Accession Number: 20101130-5032.

Comment Date: 5 p.m. Eastern Time on Tuesday, December 21, 2010.

Docket Numbers: ER11-2205-000.

Applicants: Southwest Power Pool, Inc.

Description: Southwest Power Pool, Inc. submits tariff filing per 35.13(a)(2)(iii): Formula Update—LES & OPPD to be effective 8/1/2010.

Filed Date: 11/30/2010.

Accession Number: 20101130-5035.

Comment Date: 5 p.m. Eastern Time on Tuesday, December 21, 2010.

Docket Numbers: ER11-2206-000.

Applicants: Alta Wind V, LLC.

Description: Alta Wind V, LLC submits tariff filing per 35.1: Alta Wind V, LLC MBR Tariff to be effective 10/30/2010.

Filed Date: 11/30/2010.

Accession Number: 20101130-5045.

Comment Date: 5 p.m. Eastern Time on Tuesday, December 21, 2010.

Docket Numbers: ER11-2207-000.

Applicants: Alta Wind IV, LLC.

Description: Alta Wind IV, LLC submits tariff filing per 35.1: Alta Wind IV, LLC MBR Tariff to be effective 10/30/2010.

Filed Date: 11/30/2010.

Accession Number: 20101130-5046.

Comment Date: 5 p.m. Eastern Time on Tuesday, December 21, 2010.

Docket Numbers: ER11-2208-000.

Applicants: Midwest Independent Transmission System Operator, Inc.

Description: Midwest Independent Transmission System Operator, Inc. submits tariff filing per 35.13(a)(2)(iii): Ameren-Dynegy DFA to be effective 11/1/2010.

Filed Date: 11/30/2010.

Accession Number: 20101130-5049.

Comment Date: 5 p.m. Eastern Time on Tuesday, December 21, 2010.

Docket Numbers: ER11-2209-000.

Applicants: Alta Wind II, LLC.

Description: Alta Wind II, LLC submits tariff filing per 35.1: Alta Wind II, LLC MBR Tariff to be effective 10/30/2010.

Filed Date: 11/30/2010.

Accession Number: 20101130-5055.

Comment Date: 5 p.m. Eastern Time on Tuesday, December 21, 2010.

Docket Numbers: ER11-2210-000.

Applicants: Alta Wind III, LLC.

Description: Alta Wind III, LLC submits tariff filing per 35.1: Alta Wind III, LLC MBR Tariff to be effective 10/30/2010.

Filed Date: 11/30/2010.

Accession Number: 20101130-5057.

Comment Date: 5 p.m. Eastern Time on Tuesday, December 21, 2010.

Docket Numbers: ER11-2211-000.

Applicants: Alta Wind I, LLC.

Description: Alta Wind I, LLC submits tariff filing per 35.1: Alta Wind I, LLC MBR Tariff to be effective 8/30/2010.

Filed Date: 11/30/2010.

Accession Number: 20101130-5058.

Comment Date: 5 p.m. Eastern Time on Tuesday, December 21, 2010.

Docket Numbers: ER11-2212-000.

Applicants: Oak Creek Wind Power, LLC.

Description: Oak Creek Wind Power, LLC submits tariff filing per 35.15: Ridge Crest Wind Partners, LLC Cancellation of MBR Tariff to be effective 9/30/2010.

Filed Date: 11/30/2010.

Accession Number: 20101130-5086.

Comment Date: 5 p.m. Eastern Time on Tuesday, December 21, 2010.

Docket Numbers: ER11-2213-000.

Applicants: Ridge Crest Wind Partners, LLC.

Description: Ridge Crest Wind Partners, LLC submits tariff filing per 35.1: Ridge Crest Wind Partners, LLC MBR Tariff to be effective 9/30/2010.

Filed Date: 11/30/2010.

Accession Number: 20101130-5088.

Comment Date: 5 p.m. Eastern Time on Tuesday, December 21, 2010.

Docket Numbers: ER11-2214-000.

Applicants: Sky River LLC.

Description: Sky River LLC submits tariff filing per 35.12: Sky River LLC and Windstar Energy, LLC Common Facilities Agreement Filing to be effective 2/1/2011.

Filed Date: 11/30/2010.

Accession Number: 20101130-5121.

Comment Date: 5 p.m. Eastern Time on Tuesday, December 21, 2010.

Docket Numbers: ER11-2215-000.

Applicants: PJM Interconnection, L.L.C., Commonwealth Edison Company.

Description: PJM Interconnection, L.L.C. submits tariff filing per 35: ComEd submits Attachment M-2 to PJM's Tariff per Order in Docket No. ER10-2545 to be effective 11/2/2010.

Filed Date: 11/30/2010.

Accession Number: 20101130-5125.

Comment Date: 5 p.m. Eastern Time on Tuesday, December 21, 2010.

Docket Numbers: ER11-2216-000.

Applicants: ISO New England Inc.

Description: ISO New England Inc. submits tariff filing per 35.13(a)(2)(iii): Interconnection Value Services to be effective 1/31/2011.

Filed Date: 11/30/2010.

Accession Number: 20101130-5136.

Comment Date: 5 p.m. Eastern Time on Tuesday, December 21, 2010.

Docket Numbers: ER11-2217-000.

Applicants: New York Independent System Operator, Inc.

Description: New York Independent System Operator, Inc. submits tariff filing per 35.13(a)(2)(iii): 205 Filing—Locational Based Marginal Pricing Calculation to be effective 1/31/2011.

Filed Date: 11/30/2010.

Accession Number: 20101130-5142.

Comment Date: 5 p.m. Eastern Time on Tuesday, December 21, 2010.

Docket Numbers: ER11-2218-000.

Applicants: Mirant Potrero, LLC.

Description: Mirant Potrero, LLC submits tariff filing per 35.13(a)(2)(iii): Submittal of Revisions to Must Run Service Agreement & Unplanned Repair Notices to be effective 1/1/2011.

Filed Date: 11/30/2010.

Accession Number: 20101130-5145.

Comment Date: 5 p.m. Eastern Time on Tuesday, December 21, 2010.

Docket Numbers: ER11-2219-000.

Applicants: Southern California Edison Company.

Description: Southern California Edison submits cancellation of letter agreement with City of Riverside, SA 237.

Filed Date: 11/30/2010.

Accession Number: 20101130-5146.

Comment Date: 5 p.m. Eastern Time on Tuesday, December 21, 2010.

Docket Numbers: ER11-2220-000.

Applicants: Southwest Power Pool, Inc.

Description: Southwest Power Pool, Inc. submits tariff filing per 35.13(a)(2)(iii): Formula Update—GRDA to be effective 8/1/2010.

Filed Date: 11/30/2010.

Accession Number: 20101130-5168.

Comment Date: 5 p.m. Eastern Time on Tuesday, December 21, 2010.

Docket Numbers: ER11-2221-000.

Applicants: Pacific Gas and Electric Company.

Description: Pacific Gas and Electric Company submits tariff filing per 35.13(a)(2)(i): Hercules Municipal Utility Transmission Agreements to be effective 1/31/2011.

Filed Date: 11/30/2010.

Accession Number: 20101130-5174.

Comment Date: 5 p.m. Eastern Time on Tuesday, December 21, 2010.

Docket Numbers: ER11-2222-000.

Applicants: West Penn Power Company.

Description: West Penn Power Company submits tariff filing per 35.15: West Penn Cancellation of Tariff Record to be effective 11/30/2010.

Filed Date: 11/30/2010.

Accession Number: 20101130-5208.

Comment Date: 5 p.m. Eastern Time on Tuesday, December 21, 2010.

Docket Numbers: ER11-2223-000.

Applicants: The Potomac Edison Company.

Description: The Potomac Edison Company submits tariff filing per 35.15: Potomac Edison Cancellation of tariff record to be effective 11/30/2010.

Filed Date: 11/30/2010.

Accession Number: 20101130-5211.

Comment Date: 5 p.m. Eastern Time on Tuesday, December 21, 2010.

Docket Numbers: ER11-2224-000.

Applicants: New York Independent System Operator, Inc.

Description: New York Independent System Operator, Inc. submits tariff filing per 35.13(a)(2)(iii): 205 Filing to Implement Revised ICAP Demand Curves to be effective 1/28/2011.

Filed Date: 11/30/2010.

Accession Number: 20101130-5229.

Comment Date: 5 p.m. Eastern Time on Tuesday, December 21, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-30922 Filed 12-8-10; 8:45 am]

BILLING CODE 6717-01-P